OFFICE OF THE UNITED STATES TRADE REPRESENTATIVE

[Docket Number USTR-2020-0010]

Postponement of Field Hearings Regarding Trade Distorting Policies That May Be Affecting Seasonal and Perishable Products in U.S. Commerce

AGENCY: Office of the United States Trade Representative.

ACTION: Postponement of public hearings and extended deadline to submit comments.

SUMMARY: On March 10, 2020, the Office of the U.S. Trade Representative (USTR) announced that USTR and the Departments of Agriculture and Commerce would convene public hearings in Florida and Georgia to hear firsthand from interested persons on trade distorting policies that may be causing harm to U.S. seasonal and perishable producers. Consistent with guidance issued by the Centers for Disease Control and Prevention's concerning COVID-19, USTR is postponing the public hearings and will announce rescheduled dates. USTR will continue to accept written comments.

DATES:

Field Hearings: The field hearings scheduled for April 7, 2020, in Plant City, Florida, and April 9, 2020, in Valdosta, Georgia are postponed and will be rescheduled at later date.

Comments: USTR is waiving the March 26, 2020, submission deadline and encourages interested persons to file comments and supporting documentation via www.regulations.gov, using docket number USTR-2020-0010. The instructions for submission are in section II of the notice published on March 10, 2020 (85 FR 13973). For alternatives to online submissions, please contact Trey Forsyth in advance of the submission deadline at (202) 395-8583.

FOR FURTHER INFORMATION CONTACT: Trey Forsyth at (202) 395-8583.

Joseph Barloon,
General Counsel, Office of the U.S. Trade Representative.

[FR Doc. 2020-06049 Filed 3-30-20; 8:45 am]

BILLING CODE 3290-F0-P